FEDERAL COMMUNICATIONS COMMISSION

Radio Broadcasting Services; AM or FM Proposals To Change The Community of License

AGENCY: Federal Communications Commission.

ACTION: Notice.

SUMMARY: The following applicants filed AM or FM proposals to change the community of license: Birach Broadcasting Corporation, Station WMFN, Facility ID 55089, BP-20140715AAF, From Zeeland, MI, To Peotone, IL; Isleta Radio Company, Station KQNM, Facility ID 22391, BP-20140715ABR, From Milan, NM, To Sandia, NM; Max Henry & Associates, Station NEW, Facility ID 191528, BMPH-20140715AAT, From Harrison, MI, To Big Rapids, MI; Radio Fargo-Moorhead, Inc., Station KSKK, Facility ID 49094, BPH-20140917ABQ, From Staples, MN, To Frazee, MN; Results Radio of Redding Licensee, LLC, Station KNCQ, Facility ID 40828, BPH-20140828ACE, From Redding, CA, To Weaverville, CA; Results Radio of Redding Licensee, LLC, Station KHRD, Facility ID 82720, BPH-20140828ACG, From Weaverville, CA, To Redding, CA; Sacred Heart University, Inc., Station WSHU, Facility ID 43126, BP-20140821AFR, From Westport, CT, To Seymour, CT; SSR Communications, Inc., Station WYAB, Facility ID 77646, BPH-20140826ACE, From Flora, MS, To Pocahontas, MS; Sunnylands Broadcasting LLC, Station NEW, Facility ID 189496, BNPH-20110630AGJ, From Ilwaco, WA, To Central Park, WA.

DATES: The agency must receive comments on or before December 5, 2014.

ADDRESSES: Federal Communications Commission, 445 Twelfth Street SW., Washington, DC 20554.

FOR FURTHER INFORMATION CONTACT: Tung Bui, 202-418-2700.

SUPPLEMENTARY INFORMATION: The full text of these applications is available for inspection and copying during normal business hours in the Commission's Reference Center, 445 12th Street SW., Washington, DC 20554 or electronically via the Media Bureau's Consolidated Data Base System, http://svartifoss2.fcc.gov/prod/cdbs/pubacc/prod/cdbs_pa.htm. A copy of this application may also be purchased from the Commission's duplicating contractor, Best Copy and Printing, Inc., 445 12th Street SW., Room CY-B402, Washington, DC 20554, telephone 1-800-378-3160 or www.BCPIWEB.com.

Federal Communications Commission.
James D. Bradshaw,
Deputy Chief, Audio Division, Media Bureau.

[FR Doc. 2014-23778 Filed 10-3-14; 8:45 am]

BILLING CODE 6712-01-P